ENVIRONMENTAL PROTECTION AGENCY

[EPA-HQ-OPP-2015-0296; FRL-9933-58]

Product Cancellation Order and/or Amendments To Terminate Uses for Certain Pesticide Registrations

AGENCY: Environmental Protection Agency (EPA).

ACTION: Notice.

SUMMARY: This notice announces EPA's order for the cancellations and/or amendments to terminate uses, voluntarily requested by the registrants and accepted by the Agency, of the products listed in Table 1 and 2 of Unit II., pursuant to the Federal Insecticide, Fungicide, and Rodenticide Act (FIFRA). This cancellation order follows a July 8, 2015 Federal Register Notice of Receipt of Requests from the registrants listed in Table 3 of Unit II to voluntarily cancel and/or amend these product registrations. In the July 8, 2015 notice, EPA indicated that it would issue an order implementing the cancellations and/or amendments to terminate uses, unless the Agency received substantive comments within the 30 day comment period that would merit its further review of these requests, or unless the registrants withdrew their requests. The Agency received comments on the notice but none merited its further review of the requests. Further, the registrants did not withdraw their requests. Accordingly, EPA hereby issues in this notice a cancellation order granting the requested cancellations and/or amendments to terminate uses. Any distribution, sale, or use of the products subject to this cancellation order is permitted only in accordance with the terms of this order, including any existing stocks provisions.

DATES: The cancellations and/or amendments are effective September 22, 2015.

FOR FURTHER INFORMATION CONTACT: Khue Nguyen, Pesticide Re-Evaluation Division (7508P), Office of Pesticide Programs, Environmental Protection Agency, 1200 Pennsylvania Ave. NW., Washington, DC 20460-0001; telephone number: (703) 347-0248; email address: nguyen.khue@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2015-0296, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation and/or amendments to terminate uses, as requested by registrants, of products registered under FIFRA section 3 (7 U.S.C. 136a). These registrations are listed in sequence by registration number in Table 1 and Table 2 of this unit.

Table 1—Product Cancellations
EPA Registration No. | Product name | Chemical name
100-1217 | Gramoxone Inteon | Paraquat dichloride.
100-1316 | Cyclone Star | Carfentrazone-ethyl, paraquat dichloride.
279-3183 | Matador Herbicide | Quizalofop-p-ethyl.
352-522 ᵃ | DuPont Glean Fertilizer Compatible Herbicide | Chlorsulfuron.
352-586 ᵃ | DuPont Canvas Herbicide | Metsulfuron, thifensulfuron-methyl, tribenuron-methyl.
2724-819 | Pyrocide Pressurized Ant & Roach Spray | Propoxur, pyrethrins, piperonyl butoxide, MGK 264.
9468-33 | Kull 41 S | Glyphosate.
9468-34 | Kull 62 MUP | Glyphosate.
9468-35 | Kull TGAI Glyphosate | Glyphosate.
59639-109 ᵃ | Flufenpyr-ethyl Technical | Flufenpyr-ethyl.
59639-110 ᵃ | S-3153 WDG Herbicide | Flufenpyr-ethyl.
70596-6 | Dichlorprop-p Technical | Dichlorprop-p.
70596-13 | Dichlorprop-p (Technical Grade) | Dichlorprop-p.
NV020006 | Moncut 70-DF | Flutolanil.
ᵃ There are no existing stocks of these product registrations and no requests for existing stocks provisions. Therefore no existing stocks provision is provided for these product registrations.

Table 2—Product Registration Amendments To Terminate One or More Uses
EPA Registration No. | Product name | Chemical name | Uses terminated
2724-818 | Pyrocide Intermediate 7045 | Propoxur, MGK 264, piperonyl butoxide, pyrethrins | Indoor aerosol, spray, and liquid formulations; use in food handling establishments and indoor crack and crevice use.
2724-820 | Propoxur Technical Insecticide | Propoxur | Indoor aerosol, spray, and liquid formulations; use in food handling establishments and indoor crack and crevice use.
2724-821 | Propoxur 70% Concentrate | Propoxur | Indoor aerosol, spray, and liquid formulations; use in food handling establishments and indoor crack and crevice use.
5905-250 | Fyfanon 8 lb. Emulsion | Malathion | Cull fruits and vegetable dumps.
89867-2 | Airgas Sulfur Dioxide | Sulfur dioxide | Grapes.

Table 3 of this unit includes the names and addresses of record for all registrants of the products in Table 1 and 2 of this unit, in sequence by EPA company number. This number corresponds to the first part of the EPA registration numbers of the products listed in Table 1 and 2 of this unit.

Table 3—Registrants of Cancelled and/or Amended Products
EPA Company No. | Company name and address
100 | Syngenta Crop Protection, LLC, P.O. Box 18300, Greensboro, NC 27419.
279 | FMC Corporation, 1735 Market Street, Philadelphia, PA 19103.
352 | E. I. DuPont de Nemours and Company, 1007 Market St., Wilmington, DE 19898.
2724 | Wellmark International, 1501 E. Woodfield Road, Suite 200, West Schaumburg, IL 60173.
5905 | Helena Chemical Company, 7664 Smythe Farm Road, Memphis, TN 38120.
9468 | Ritter Chemical, LLC, 9300 Baythorne Dr., Houston, TX 77041.
59639 | Valent USA Corporation, 1600 Riviera Avenue, Suite 200, Walnut Creek, CA 94596.
70596 | Nufarm Americas, Inc., 4020 Aerial Center Parkway, Suite 101, Morrisville, NC 27560.
71711 | Nichino America, Inc., 4550 New Linden Hill Road, Suite 501, Wilmington, DE 19808.
89867 | Airgas USA, LLC, 7217 Lancaster Pike, Suite A, P.O. Box 640, Hockessin, DE 19707.

III. Summary of Public Comments Received and Agency Response to Comments

During the public comment period provided, EPA received one comment from a private citizen who is opposed to the proposed cancellation of the indoor crack and crevice use of propoxur. The citizen disagrees with the Agency's methodology for assessing the risks from propoxur exposure via the incidental oral exposure pathway. The propoxur risk assessment was conducted in accordance with current EPA science policies for assessing indoor crack and crevice uses. That assessment identified exposure and risk estimates that are of concern for this exposure pathway for propoxur. As a result of these findings, Wellmark International has requested to voluntarily cancel these uses. The Agency does not believe that the comment submitted during the comment period merits further review or a denial of the request for the amendment to terminate uses.

IV. Cancellation Order

Pursuant to FIFRA section 6(f) (7 U.S.C. 136d(f)), EPA hereby approves the requested cancellations and/or amendments to terminate uses of the registrations identified in Table 1 and 2 of Unit II. Accordingly, the Agency hereby orders that the product registrations identified in Table 1 and 2 of Unit II are canceled and/or amended to terminate the affected uses. The effective date of the cancellations that are the subject of this notice is September 22, 2015. Any distribution, sale, or use of existing stocks of the products identified in Table 1 and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of July 8, 2015 (80 FR 39100) (FRL-9928-54). The comment period closed on August 7, 2015.

VI. Provisions for Disposition of Existing Stocks

Existing stocks are those stocks of registered pesticide products which are currently in the United States and which were packaged, labeled, and released for shipment prior to the effective date of the cancellation action. The existing stocks provisions for the products subject to this order are as follows.

A. For Products 352-522, 352-586, and 59639-109 Identified in Table 1 of Unit II

The registrants reported to the Agency via written correspondence that there are no existing stocks of EPA registration numbers 352-522, 352-586, and 59639-109. Therefore, no existing stocks provision was requested by or is needed for these registrants. The registrants will be prohibited from selling or distributing these products upon cancellation of these products, which will be September 22, 2015, except for export consistent with FIFRA section 17 (7 U.S.C. 136o) or for proper disposal.

Persons other than registrants will generally be allowed to sell, distribute, or use existing stocks of the affected products until such stocks are exhausted, provided that such sale, distribution, or use is consistent with the terms of the previously approved labeling on, or that accompanied, the canceled product.

B. For All Other Products Identified in Table 1 of Unit II

For the other voluntary product cancellations noted in Table 1 of Unit II, the registrants will be permitted to sell and distribute existing stocks of voluntarily canceled products for 1 year after the effective date of the cancellation, which will be September 22, 2016. Thereafter, registrants will be prohibited from selling or distributing the products identified in Table 1 of Unit II, except for export consistent with FIFRA section 17 (7 U.S.C. 136o) or for proper disposal.

Persons other than the registrant may sell, distribute, or use existing stocks of the affected canceled products until supplies are exhausted, provided that such sale, distribution, or use is consistent with the terms of the previously approved labeling on, or that accompanied, the canceled products.

C. For All Products Identified in Table 2 of Unit II

Once EPA has approved product labels reflecting the amendments to terminate uses for the products identified in Table 2 of Unit II, registrants will be permitted to sell or distribute products under the previously approved labeling for a period of 18 months after the date of Federal Register publication of this cancellation order, which will be March 22, 2017 unless other restrictions have been imposed. Thereafter, registrants will be prohibited from selling or distributing the products whose labels include the terminated uses identified in Table 2 of Unit II, except for export consistent with FIFRA section 17 or for proper disposal.

Persons other than the registrant may sell, distribute, or use existing stocks of the products whose labels include the terminated uses until supplies are exhausted, provided that such sale, distribution, or use is consistent with the terms of the previously approved labeling on, or that accompanied, the products with the terminated uses.

Authority: 7 U.S.C. 136 et seq.

Dated: September 11, 2015.
Richard P. Keigwin, Jr.,
Director, Pesticide Re-Evaluation Division, Office of Pesticide Programs.

[FR Doc. 2015-24058 Filed 9-21-15; 8:45 am]

BILLING CODE 6560-50-P